NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: February 28, 2012, 9 a.m.-5:30 p.m.,

February 29, 2012, 9 a.m.-3 p.m.

Place: National Science Foundation (NSF), 4201 Wilson Boulevard Arlington, VA 22230.

To help facilitate your entry into the building, contact the individual listed below. Your request to attend this meeting must be received by email (kmack@nsf.gov) on or prior to February 21, 2012.

Type of Meeting: Open.

Contact Person: Dr. Kelly Mack, Program Officer and CEOSE Executive Secretary, Division of Human Resource Development, Directorate for Education and Human Resources, National Science Foundation, 4201 Wilson Boulevard, Arlington, VA 22230.

Telephone Numbers: (703) 292-8575 kmack@nsf.gov.

Minutes: Meeting minutes and other information may be obtained from the Executive Secretary at the above address or the Web site at http://www.nsf.gov/od/oia/activities/ceose/index.jsp.

Purpose of Meeting: To study data, programs, policies, and other information pertinent to the National Science Foundation and to provide advice and recommendations concerning broadening participation in science and engineering.

Agenda:

Tuesday, February 28, 2012

Opening Statement by the CEOSE Chair.

Feature Presentation:

• NSTC Inventory of Federal STEM Education and the Federal STEM Education Strategic Plan: Dr. Michael Feder (Policy Analyst, OSTP).

Discussions and Reports:

• Concurrence on the minutes of the CEOSE October 17-18, 2011 meeting;

• Report of CEOSE Executive Officer meeting with Dr. Suresh (February 8, 2012);

• Report of CEOSE liaisons to NSF Directorate Committees on NSF Advisory Committee Meetings;

• CEOSE 2011-12 Biennial Report to Congress;

• Diversity and inclusion discussion with federal agency liaisons to CEOSE;

• Establishment of Ad Hoc Subcommittees and Development of Charges to Those Subcommittees.

Wednesday, February 29, 2012

Opening Statement by the CEOSE Chair.

Feature Presentation:

• Expanding Underrepresented Minority Participation in STEM: Dr. Subra Suresh (Director, NSF) and Dr. Freeman Hrabowski (President, UMBC and Chair, Committee on Underrepresented Groups and the Expansion of the Science and Engineering Workforce Pipeline).

Discussions and Reports:

• Conversation with NSF Director, Dr. Subra Suresh.

• Broadening Participation Programs and Initiatives in the NSF Social, Behavioral and Economic Sciences Directorate.

• NSF Veterans' Science and Engineering Initiative: Dr. Sue Kemnitzer.

• Update: Mini-Symposium on Hispanic Serving Institutions.

• Update: Mini-Symposium on the Science of Broadening Participation.

Dated: February 1, 2012.
Susanne Bolton,
Committee Management Officer.

[FR Doc. 2012-2666 Filed 2-6-12; 8:45 am]

BILLING CODE 7555-01-P